DEPARTMENT OF EDUCATION

Federal Pell Grant, Federal Perkins Loan, Federal Work-Study, Federal Supplemental Educational Opportunity Grant, Federal Family Education Loan, and William D. Ford Federal Direct Loan Programs

AGENCY: Federal Student Aid, Department of Education.

ACTION: Notice of revision of the Federal Need Analysis Methodology for the 2005-2006 award year.

SUMMARY: The Secretary of Education announces the updates to the state tax tables that will be used in the statutory “Federal Need Analysis Methodology” to determine a student's expected family contribution (EFC) for award year 2005-2006 under part F of title IV of the Higher Education Act of 1965 (HEA), as amended (Title IV, HEA Programs). An EFC is the amount a student and his or her family may reasonably be expected to contribute toward the student's postsecondary educational costs for purposes of determining financial aid eligibility. The Title IV, HEA Programs include the Federal Pell Grant, campus-based (Federal Perkins Loan, Federal Work-Study, and Federal Supplemental Educational Opportunity Grant Programs), Federal Family Education Loan, and William D. Ford Federal Direct Loan Programs.

FOR FURTHER INFORMATION CONTACT: Ms. Marya Dennis, Management and Program Analyst, U.S. Department of Education, Union Center Plaza, 830 First Street, NE., Washington, DC 20202. Telephone: (202) 377-3385. If you use a telecommunications device for the deaf (TDD), you may call the Federal Information Relay Service (FIRS) at 1-800-877-8339.

Individuals with disabilities may obtain this document in an alternative format (e.g., Braille, large print, audiotape or computer diskette) on request to the contact person listed in the preceding paragraph.

SUPPLEMENTARY INFORMATION: Part F of title IV of the HEA specifies the criteria, data elements, calculations, and tables used in the Federal Need Analysis Methodology EFC calculations.

Section 478 of part F of the HEA requires the Secretary to adjust four of the tables—the Income Protection Allowance, the Adjusted Net Worth of a Business or Farm, the Education Savings and Asset Protection Allowance, and the Assessment Schedules and Rates—each award year to take into account inflation. The changes are based, in general, upon increases in the Consumer Price Index. The Secretary published these adjusted tables in the Federal Register on June 17, 2004. See 69 FR 33890.

Section 478(g) of part F of the HEA further directs the Secretary to update the tables for State and other taxes after reviewing the Department of Treasury's Statistics of Income file data maintained by the Internal Revenue Service. The Secretary delayed publication of these tables in order to complete a thorough review of the available information from the Statistics of Income file data maintained by the Internal Revenue Service. Also, a provision in the Consolidated Appropriations Act, 2004 (Pub. L. 108-199), directed the Advisory Committee on Student Financial Assistance to examine the efficiency, effectiveness and fairness of the current procedures to update formula offsets and allowances. The Secretary considered the preliminary findings of the Advisory Committee's analysis as he reviewed the Statistics of Income file data.

Finally, section 482 of part F of the HEA requires the Secretary to publish the annual Federal Need Analysis Methodology updates by June 1. On June 16, 2004, also as required by section 482 of part F of the HEA, the Secretary informed the Chairmen and Ranking Members of the House Education and Workforce and Senate Health, Education, Labor, and Pensions Committees that the Department did not meet this deadline.

The State tax table information for 2005-2006 is as follows:

Allowance for State and Other Taxes. The allowance for State and other taxes protects a portion of the parents' and students' income from being considered available for postsecondary educational expenses. There are four tables for State and other taxes, one each for parents of dependent students, independent students with dependents other than a spouse, dependent students, and independent students without dependents other than a spouse.

[In percent]
State | Parents of dependents and independents with dependents other than a spouse: Under $15,000 (in percent) | Parents of dependents and independents with dependents other than a spouse: $15,000 and up (in percent) | Dependents and independents without dependents other than a spouse—all (in percent)
Alabama | 3 | 2 | 2
Alaska | 2 | 1 | 0
Arizona | 4 | 3 | 2
Arkansas | 3 | 2 | 3
California | 7 | 6 | 5
Colorado | 4 | 3 | 3
Connecticut | 7 | 6 | 4
Delaware | 4 | 3 | 3
District of Columbia | 7 | 6 | 6
Florida | 2 | 1 | 0
Georgia | 5 | 4 | 3
Hawaii | 4 | 3 | 4
Idaho | 5 | 4 | 3
Illinois | 5 | 4 | 2
Indiana | 4 | 3 | 3
Iowa | 5 | 4 | 3
Kansas | 5 | 4 | 3
Kentucky | 5 | 4 | 4
Louisiana | 2 | 1 | 2
Maine | 6 | 5 | 4
Maryland | 7 | 6 | 5
Massachusetts | 6 | 5 | 4
Michigan | 5 | 4 | 3
Minnesota | 6 | 5 | 4
Mississippi | 3 | 2 | 2
Missouri | 4 | 3 | 3
Montana | 5 | 4 | 3
Nebraska | 5 | 4 | 3
Nevada | 2 | 1 | 1
New Hampshire | 4 | 3 | 1
New Jersey | 8 | 7 | 4
New Mexico | 4 | 3 | 3
New York | 8 | 7 | 5
North Carolina | 6 | 5 | 4
North Dakota | 2 | 1 | 1
Ohio | 6 | 5 | 4
Oklahoma | 4 | 3 | 3
Oregon | 7 | 6 | 5
Pennsylvania | 5 | 4 | 3
Rhode Island | 7 | 6 | 4
South Carolina | 5 | 4 | 3
South Dakota | 1 | 0 | 0
Tennessee | 1 | 0 | 0
Texas | 2 | 1 | 0
Utah | 5 | 4 | 4
Vermont | 6 | 5 | 3
Virginia | 5 | 4 | 3
Washington | 2 | 1 | 0
West Virginia | 3 | 2 | 2
Wisconsin | 7 | 6 | 4
Wyoming | 1 | 0 | 0
Other | 3 | 2 | 2

Electronic Access to This Document

You may view this document, as well as other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers: 84.007 Federal Supplemental Educational Opportunity Grant; 84.032 Federal Family Education Loan Program; 84.033 Federal Work-Study Program; 84.038 Federal Perkins Loan Program; 84.063 Federal Pell Grant Program; 84.268 William D. Ford Federal Direct Loan Program)
Dated: December 17, 2004.
Theresa S. Shaw,
Chief Operating Officer, Federal Student Aid.

[FR Doc. E4-3779 Filed 12-22-04; 8:45 am]

BILLING CODE 4000-01-P